DEPARTMENT OF HEALTH AND HUMAN SERVICES

Centers for Disease Control and Prevention

Disease, Disability, and Injury Prevention and Control Special Emphasis Panel (SEP): NORA: RFA OH-01-002: World-Wide Occupational Safety and Health Program; RFA OH-01-003: State Fatality Surveillance and Field Investigations of Occupational Injuries: Fatality Assessment and Control Evaluation (FACE); and PA 99-143: Construction Safety Alliance

In accordance with section 10(a)(2) of the Federal Advisory Committee Act (Pub. L. 92-463), the Centers for Disease Control and Prevention (CDC) announces the following meeting:

Name: Disease, Disability, and Injury Prevention and Control Special Emphasis Panel (SEP) NORA: RFA OH-01-002: World-Wide Occupational Safety and Health Program; RFA OH-01-003: State Fatality Surveillance and Field Investigations of Occupational Injuries: Fatality Assessment and Control Evaluation (FACE); and PA 99-143: Construction Safety Alliance (NIOSH).

Times and Dates: 10 a.m.- 10:30 a.m., May 14, 2001. (Open); 10:30 a.m.-5 p.m., May 14, 2001. (Closed); 8 a.m.-2 p.m., May 15, 2001. (Closed).

Place: State Plaza Hotel, 2117 E. State Street, NW, Washington, DC 20037.

Status: Portions of the meeting will be closed to the public in accordance with provisions set forth in section 552b(c) (4) and (6), Title 5 U.S.C., and the Determination of the Deputy Director for Program Management, CDC, pursuant to Public Law 92-463.

Matters to be Discussed: The meeting will include the review, discussion, and evaluation of applications received in response to Program Announcements NORA: RFA OH-01-002; RFA OH-01-003; and PA 99-143.

Contact Person for More Information: Gwendolyn H. Cattledge, Ph.D., Office of Extramural Programs, National Institute for Occupational Safety and Health, CDC, 1600 Clifton Rd, NE, M/S D28, Atlanta, Georgia 30333, telephone 404-639-2378.

The Director, Management Analysis and Services Office has been delegated the authority to sign Federal Register notices pertaining to announcements of meetings and other committee management activities, for both the Centers for Disease Control and Prevention and the Agency for Toxic Substances and Disease Registry.

Dated: April 18, 2001.
Carolyn J. Russell,
Director, Management Analysis and Services Office, Centers for Disease Control and Prevention (CDC)

[FR Doc. 01-10055 Filed 4-23-01; 8:45 am]

BILLING CODE 4163-19-P